SECURITIES AND EXCHANGE COMMISSION

Sunshine Act Meetings

Notice is hereby given, pursuant to the provisions of the Government in the Sunshine Act, Pub. L. 94-409, that the Securities and Exchange Commission will hold the following meetings during the week of October 4, 2004:

Closed meetings will be held on Monday, October 4, 2004 at 10 a.m., and Thursday, October 7, 2004 at 2:15 p.m. An open meeting will be held on Wednesday, October 6 at 10 a.m. in Room 6600.

Commissioners, Counsel to the Commissioners, the Secretary to the Commission, and recording secretaries will attend the closed meetings. Certain staff members who have an interest in the matters may also be present.

The General Counsel of the Commission, or his designee, has certified that, in his opinion, one or more of the exemptions set forth in 5 U.S.C. 552b(c)(5), (7), (9)(B), and (10) and 17 CFR 200.402(a)(5), (7), 9(ii) and (10), permit consideration of the scheduled matters at the closed meetings.

Commissioner Atkins, as duty officer, voted to consider the items listed for the closed meetings in closed session and that no earlier notice thereof was possible.

The subject matter of the closed meeting scheduled for Monday, October 4, 2004 will be:

Institution and settlement of injunctive action; and

Institution and settlement of administrative proceedings of an enforcement nature.

The subject matter of the open meeting scheduled for Wednesday, October 6, 2004 will be:

The Commission will hear oral argument in an appeal by Michael Batterman, an investment adviser, and by Randall B. Batterman III from an initial decision of an administrative law judge. On motion for summary disposition, the law judge found that the Battermans had been permanently enjoined from future violations of Section 17(a) of the Securities Act of 1933, Section 10(b) of the Securities Exchange Act of 1934, Exchange Act Rule 10b-5, and Sections 206(1) and 206(2) of the Investment Advisers Act of 1940. The law judge barred the Battermans from association with any investment adviser.

Among the issues likely to be considered are:

1. Whether Federal Rule of Civil Procedure 36(b) provides that the district court injunction may not be used as a basis for this proceeding where the district court deemed that the Battermans had admitted certain allegations in Requests for Admissions filed by the Commission based on their failure to deny properly those allegations;

2. Whether the doctrine of collateral estoppel precludes the Battermans' challenge to the district court's findings;

3. Whether Randall Batterman was “a person associated with an investment adviser” within the meaning of the Advisers Act; and

4. Whether sanctions are appropriate in the public interest.

The subject matter of the closed meeting scheduled for Thursday, October 7, 2004 will be:

Formal orders of investigations;

Institution and settlement of injunctive actions;

Institution and settlement of administrative proceedings of an enforcement nature; and an

Adjudicatory matter.

At times, changes in Commission priorities require alterations in the scheduling of meeting items. For further information and to ascertain what, if any, matters have been added, deleted or postponed, please contact:

The Office of the Secretary at (202) 942-7070.

Dated: September 29, 2004.
Jonathan G. Katz,
Secretary.

[FR Doc. 04-22284 Filed 9-29-04; 4:00 pm]

BILLING CODE 8010-01-M